DEPARTMENT OF COMMERCE

National Oceanic and Atmospheric Administration

RIN 0648-XC520

New England Fishery Management Council; Public Meeting

AGENCY: National Marine Fisheries Service (NMFS), National Oceanic and Atmospheric Administration (NOAA), Commerce

ACTION: Notice; public meeting.

SUMMARY: The New England Fishery Management Council (Council) is scheduling a public meeting of its Habitat Committee to consider actions affecting New England fisheries in the exclusive economic zone (EEZ). Recommendations from this group will be brought to the full Council for formal consideration and action, if appropriate.

DATES: This meeting will be held on Tuesday, March 19, 2013 at 9 a.m.

ADDRESSES: The meeting will be held at the Hawthorne Hotel, 18 Washington Square, Salem, MA 01970; telephone: (978) 744-4080; fax: (978) 745-9842.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Habitat Committee will continue development of management alternatives for Omnibus EFH Amendment 2. Regarding Dedicated Habitat Research Areas, the Committee will review PDT recommendations about: (1) Implementing dedicated habitat research areas (e.g. defining “use” in relation to sunset provisions), (2) goals and objectives for specific research areas, and (3) boundaries for Eastern Maine and Georges Bank DHRAs. Regarding gear modifications, the Committee will (1) review PDT information about gear modifications for scallop dredges, (2) discuss other gear modification options as needed, and (3) discuss a gear modification research agenda and data collection program. The Committee will also review recommended boundaries for a single Habitat Management Area in the Great South Channel. Other business may be discussed as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: February 22, 2013.
Tracey L. Thompson,
Acting Deputy Director, Office of Sustainable Fisheries, National Marine Fisheries Service.

[FR Doc. 2013-04509 Filed 2-26-13; 8:45 am]

BILLING CODE 3510-22-P